DEPARTMENT OF ENERGY

Federal Energy Regulatory Commission

[Docket No. RP99-351-002]

Florida Gas Transmission Company; Notice of Compliance Filing

November 22, 2000.

Take notice that on November 14, 2000, Florida Gas Transmission Company (FGT) tendered for filing to become part of its FERC Gas Tariff, Third Revised Volume No. 1, the following tariff sheets, effective December 1, 2000:

Fourth Revised Sheet No. 650

Third Revised Sheet No. 651

Third Revised Sheet No. 652

Third Revised Sheet No. 653

Fourth Revised Sheet No. 654

FGT states that on June 5, 1999 FGT filed revised tariff sheets to reflect the certification of the Data Verification Committee (DVC) of the “Index of Requirements by End Use Priority for the 12 Month Period Ending June 30, 1998.” The DVC certification is pursuant to Section 17.A.4 of the General Terms and Conditions of the FGT FERC Gas Tariff, which requires (i) that shippers submit data showing usage of Priority 1 and/or Priority 2 Exempt Uses for a one-year period ending every third July 31 and (ii) that the DVC certify the volumes which qualify as Priority 1 or Priority 2 Exempt Uses. On July 7, 1997 Coronet Industries, Inc. (Coronet) and U.S. Agri-Chemicals Corporation (US Agri-Chem) jointly filed a protest objecting to the DVC's reading of the tariff to exclude agricultural uses having alternative fuel capability on August 29, 1979 and requesting that their entire usage be included as a Priority 2 Exempt Use. Coronet and US Agri-Chem also objected to the DVC decision to allow shippers having no growth to use existing Exempt Use data collected for the period for July 1, 1994 to June 31, 1995 in lieu of resubmitting actual daily average gas usage for the period July 1, 1997 to June 30, 1998. On July 16, 1999 FGT filed a response to the Protest.

Also, FGT states that on July 23, 1999 the Commission issued its “Order Accepting and Suspending Tariff Sheets Subject to Refund and Establishing a Briefing Schedule.” Coronet/US Agri-Chem and FGT filed Initial Briefs on August 12, 1999 and Reply Briefs on August 23, 1999. On September 15, 2000 the Commission issued its “Order on Briefs.” The Commission determined that the DVC was correct in its decision to exclude agricultural uses with alternate fuel capability on August 29, 1979. However, the Commission determined that it was inappropriate to utilize Exempt Use data from the prior data collection. The Commission required the collection of actual data for the 12-month period ending in June 30, 1998.

And, FGT states that by letter dated September 27, 2000, FGT gave notice that customers were required to submit actual end use data pursuant to the Commission's September 15, 2000 Order. This data was submitted and on November 2, 2000 the DVC met to vote on the certification of requirements.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30341 Filed 11-28-00; 8:45 am]

BILLING CODE 6717-01-M